DEPARTMENT OF ENERGY

Federal Energy Regulatory Commission

[Project No. 14635-001]

Village of Gouverneur, New York; Notice of Application Ready for Environmental Analysis and Soliciting Comments, Recommendations, Terms and Conditions, and Prescriptions

Take notice that the following hydroelectric application has been filed with the Commission and is available for public inspection.

a. Type of Application: Original Minor License.

b. Project No.: 14635-001.

c. Date filed: September 20, 2019.

d. Applicant: Village of Gouverneur, New York (Village of Gouverneur).

e. Name of Project: Gouverneur Hydroelectric Project.

f. Location: On the Oswegatchie River, in the Village of Gouverneur in St. Lawrence County, New York. The project does not occupy federal land.

g. Filed Pursuant to: Federal Power Act 16 U.S.C. 791(a)-825(r).

h. Applicant Contact: Ronald P. McDougall, Mayor, Village of Gouverneur, 33 Clinton Street, Gouverneur, NY 13642; (315) 287-1720.

i. FERC Contact: Jody Callihan, (202) 502-8278 or jody.callihan@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY).

k. This application has been accepted and is now ready for environmental analysis.

The Council on Environmental Quality (CEQ) issued a final rule on July 15, 2020, revising the regulations under 40 CFR parts 1500—1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Gouverneur Project. Commission staff intends to conduct its NEPA review in accordance with CEQ's new regulations.

l. The Gouverneur Project consists of the following existing facilities: (1) A 250-foot-long concrete gravity dam that includes two bridge piers and three separate spillways that range in crest elevation from 403.4 to 403.7 feet North American Vertical Datum of 1988 (NAVD88); (2) an impoundment with a surface area of 109 acres at the normal pool elevation of 403.8 feet NAVD88; (3) a concrete intake structure containing two trash rack bays separated by a 2-foot-wide center pier, each containing a 14-foot-wide trash rack; (4) a 20-foot by 36-foot powerhouse integral to the dam and containing two vertical axial flow propeller type turbines rated at 100 kilowatts each and two 100-kilovolt-ampere Westinghouse generators with a power factor of 0.8; (5) two generator leads from the turbine-generator units to a switchgear at the powerhouse interconnecting with the local grid; and (6) appurtenant facilities.

The Village of Gouverneur proposes to continue operating the project in a run-of-river mode and release a minimum flow of 110 cubic feet per second over the project's spillways. In addition, the applicant proposes to enhance the existing boat launch located on River Street. The project generated an annual average of 1,195 megawatt-hours between 2014 and 2017.

m. A copy of the application can be viewed on the Commission's website at http://www.ferc.gov using the “eLibrary” link. Enter the docket number excluding the last three digits in the docket number field to access the document. For assistance, contact FERC Online Support.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. The license applicant must file no later than 60 days following the date of issuance of this notice: (1) A copy of the water quality certification; (2) a copy of the request for certification, including proof of the date on which the certifying agency received the request; or (3) evidence of waiver of water quality certification. Please note that the certification request must be sent to the certifying authority and to the Commission concurrently.

o. Procedural schedule: The application will be processed according to the following schedule. Revisions to the schedule will be made as appropriate.

Milestone | Target date
Deadline for Filing Comments, Recommendations, and Agency Terms and Conditions/Prescriptions | January 2021.
Deadline for Filing Reply Comments | February 2021.

Dated: November 19, 2020.
Kimberly D. Bose,
Secretary.

[FR Doc. 2020-26082 Filed 11-24-20; 8:45 am]

BILLING CODE 6717-01-P